ENVIRONMENTAL PROTECTION AGENCY

[OAR-2003-0006; FRL-7896-4]

Agency Information Collection Activities; Submission to OMB for Review and Approval; Comment Request; Highway Vehicle Activity and Emissions (Renewal), EPA ICR Number 0619.10, OMB Control Number 2060-0078

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on March 31, 2005. Under OMB regulations, the Agency may continue to conduct or sponsor the collection of information while this submission is pending at OMB. This ICR describes the nature of the information collection and its estimated burden and cost.

DATES: Additional comments may be submitted on or before May 9, 2005.

ADDRESSES: Submit your comments, referencing docket ID number OAR-2003-0006, to (1) EPA online using EDOCKET (our preferred method), by e-mail to a-and-r-docket@epa.gov, or by mail to: Environmental Protection Agency, EPA Docket Center (EPA/DC), Air and Radiation Docket and Information Center, Mail code 6102T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Carl Scarbro, Assessment and Standards Division, Office of Transportation and Air Quality, AATC, Environmental Protection Agency, 1200 Pennsylvania Avenue, NW., Washington, DC 20460; telephone number: (734) 214-4209; fax number: (734) 214-4939; e-mail address: scarbro.carl@epa.gov.

SUPPLEMENTARY INFORMATION: EPA has submitted the following ICR to OMB for review and approval according to the procedures prescribed in 5 CFR 1320.12. On Friday, January 24, 2003 (68 FR 3524), EPA sought comments on this ICR pursuant to 5 CFR 1320.8(d). EPA received a single request for information concerning the ICR. EPA forwarded the requested information to the requestor.

EPA has established a public docket for this ICR under Docket ID No. OAR-2003-0006, which is available for public viewing at the Office of Air and Radiation Docket in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Office of Air and Radiation Docket is (202) 566-1742. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Highway Vehicle Activity and Emissions (Renewal).

Abstract: EPA is initiating a data collection to target two research objectives related to emissions inventory estimation for highway vehicles. The first is to examine differences in vehicle speed among differing vehicle types and road types. The second is to measure emission rates for samples of vehicles stratified by year of manufacture and regulatory class. Data to be collected include “in-use” or “real world” vehicle speed and emission rates.

The collection is a survey, to be conducted by the Office of Transportation and Air Quality (OTAQ) in the Office of Air and Radiation (OAR). Development of rapid in-use instrumentation promises to substantially reduce the cost of emissions measurement for highway vehicles. This study will combine rapid in-use measurement capability with statistical survey design to contribute to the development of usage and emission rates for the EPA Motor Vehicle Emissions Simulator (MOVES) model. Response to the survey is voluntary.

The target population is highway vehicles registered in the study area. EPA shall recruit vehicles from State registration databases and from regional or state Inspection and Maintenance Programs (I/M).

Emissions and usage will be measured using portable on-board electronic instrumentation. Emissions instrumentation will measure carbon dioxide (CO2) and several air pollutants with one second resolution during normal operation over a period of one to three days. Air pollutants to be measured include, but are not limited to, carbon monoxide (CO), total hydrocarbons (THC), and oxides of nitrogen (NOX). The usage instrument will measure with one second resolution engine on/off, vehicle speed, and vehicle location over a period of approximately one month.

Data will be collected during normal operation. Following quality-assurance and analysis, the data will be stored in OTAQ's Mobile Source Observation Database. The information collection will involve 1,285 respondents, requiring 1,327 hours at a total cost to those respondents of $35,672. For the agency, the collection will require 26,327 hours at a total cost to the agency of $1,532,629.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 1.0 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners of highway vehicles.

Estimated Number of Respondents: 1,285.

Frequency of Response: One time.

Estimated Total Annual Hour Burden: 1,327.

Estimated Total Annual Cost: $35,672, which includes $0 annualized capital/startup costs, $0 annual O&M costs, and $35,672 annual labor costs.

Changes in the Estimates: There is a decrease of 322 hours in the total estimated burden currently identified in the OMB Inventory of Approved ICR Burdens. This decrease is due to installing instruments at a vehicle's “depot location” versus having owners commute to a central location. The total costs to the respondent will decline in kind based on the total hours.

Dated: March 31, 2005.
Oscar Morales,
Director, Collection Strategies Division.

[FR Doc. 05-6943 Filed 4-6-05; 8:45 am]

BILLING CODE 6560-50-P